DEPARTMENT OF THE INTERIOR

Bureau of Land Management

[UT-920-1320-EL, UTU-81893]

Notice of Availability of the Environmental Assessments, Determination of NEPA Adequacy, and Public Hearing for Coal Lease Application UTU-81893, Utah

AGENCY: Bureau of Land Management, Interior.

ACTION: Notice of Availability of the Kenilworth Tract Coal Lease By Application UTU-81893 and Federal Coal Notice of Public Hearing, and Request for Environmental Assessment, Determination of NEPA Adequacy, Maximum Economic Recovery and Fair Market Value Comments.

SUMMARY: Pursuant to 43 Code of Federal Regulation (CFR) 3425.4, the Bureau of Land Management (BLM) Utah State Office, held a public meeting on March 30, 2006 on the environmental assessment and Documentation of NEPA Adequacy (DNA), the proposed sale and requests public comment on the fair market value of the certain coal resources it proposes to offer for competitive lease sale. The EA/DNA analyzes and discloses direct, indirect, and cumulative environmental impacts of issuing a Federal coal lease competitively for 1,760.00 acres in Carbon County, Utah. The purpose of the public hearing was to solicit comments from the public on (1) the proposal to issue a Federal coal lease; (2) the proposed competitive lease sale; (3) the Fair Market Value (FMV) of the Federal coal; and (4) Maximum Economic Recovery (MER) of the Federal coal included in the tract.

SUPPLEMENTARY INFORMATION: On October 24, 2004 Andelex Resources, Inc. applied for a Federal coal lease. The Federal tract was assigned case number UTU-81893. The lands included in the delineated Federal coal lease tract (“Kenilworth”) are located approximately eight miles northeast of Helper, Utah on private lands with federally administered minerals and are described as follows:

T. 12 S., R. 10 E., SLM, Carbon County, Utah

sec. 26, N½SW¼, SE¼SW¼, SE¼;

sec. 27, S½;

sec. 34, S½NE¼, NW¼NE¼, NW¼, S½.

sec. 35, NE¼, S½NW¼, S½;

Containing approximately 1,760.00 acres in Carbon County, Utah.

The Kenilworth coal tract has one or more minable coal beds. The minable portions of the Castlegate A coal bed in this area are around six to twelve feet in thickness. The Castlegate A bed contains more than 16.3 million tons of recoverable high-volatile A bituminous coal. The Kenilworth coal bed may be recoverable but further analysis will be required though. The coal quality in the Castlegate A coal bed on an “as received basis” is as follows: 13,060 Btu/lb., 2.92 percent moisture, 7.61 percent ash, 41.82 percent volatile matter, 47.83 percent fixed carbon and 0.41 percent sulfur.

BLM requests public comment on the fair market value and environmental effects of this tract. The BLM signed a Decision Notice/ Finding of No Significant Impact dated February 10, 2006 that discusses the environmental effects of mining this tract. The Notice of Decision was posted in the Price Field Office and the Utah State Office on February 10, 2006. Comments should address, but not necessarily be limited to the following information.

1. The quality of the coal resource;

2. The mining methods or methods which would achieve maximum economic recovery of the coal, including specifications of seams to be mined and the most desirable timing and rate of production;

3. Whether this tract is likely to be mined as part of an existing mine and therefore should be evaluated on a realistic incremental basis, in relation to the existing mine to which it has the greatest value;

4. Whether the tract should be evaluated as part of a potential larger mining unit and revaluated as a portion of a new potential mine (i.e., a tract which does not in itself form a logical mining unit);

5. Restrictions to mining that may affect coal recovery;

6. The price that the mined coal would bring when sold;

7. Costs, including mining and reclamation, of producing the coal and the time of production;

8. The percentage rate at which anticipated income streams should be discounted, either with inflation or in the absence of inflation, in which case the anticipated rate of inflation should be given;

9. Depreciation, depletion, amortization and other tax accounting factors;

10. The value of any surface estate where held privately;

11. Documented information on the terms and conditions of recent and similar coal land transactions in the lease sale area;

12. Any comparable sales data of similar coal lands; and coal quantities and the FMV of the coal developed by BLM may or may not change as a result of comments received from the public and changes in the market conditions between now and when final economic evaluations are completed.

DATES: The public hearing was held at 7 p.m. on Thursday March 30, 2006 in the Price Field Office, 125 South 600 West, Price, Utah 84501 where copies of the EA/DNA are available for inspection or copies provided upon request. If the public wishes to have an additional meeting on the subject, please submit a request in writing to the Utah State Director, Bureau of Land Management, Utah State Office, Division of Lands and Minerals, P.O. Box 45155, Salt Lake City, Utah 84145.

FOR FURTHER INFORMATION CONTACT: Mr. Steve Rigby, Mining Engineer at the Price Field Office address above or by telephone at 435-636-3604. Written comments on the Fair Market Value and Maximum Economic Recovery should be addressed to James F. Kohler, and must be received by June 1, 2006 , Bureau of Land Management, Utah State Office, Division of Lands and Minerals, P.O. Box 45155, Salt Lake City, Utah 84145. As provided in 43 CFR 3422.1(a), proprietary data marked as confidential may be submitted to the Bureau of Land Management in response to this solicitation of public comments. Data so marked shall be treated in accordance with the laws and regulations governing confidentiality of such information. A copy of the comments submitted by the public on FMV and MER, except those portions identified as proprietary by the author and meeting exemptions stated in the Freedom of Information Act (FOIA), will be available for public inspection at the BLM, Utah State Office during the regular business hours (7:45 a.m.-4:30 p.m.) Monday through Friday. If you wish to withhold your name or address from public review or from disclosure under the FOIA you must state this prominently at the beginning of your written comments. Such requests will be honored to the extent allowed by the FOIA. All submissions from organizations, businesses and individuals identifying themselves as representatives or officials of organizations or businesses will be available for public inspection in its entirety. Substantive comments, whether written or oral, will receive equal consideration prior to any lease offering. A copy of the EA/DNA, the case file, and the comments submitted by the public, except those portions identified as proprietary by the commenter and meeting exemptions stated in the FOIA, will be available for public inspection after at the Utah State Office, 440 West 200 South, Suite 500, Salt Lake City, Utah 84145.

Dated: April 4, 2006.
James F. Kohler,
Acting Deputy State Director, Lands and Minerals.

[FR Doc. E6-6180 Filed 4-24-06; 8:45 am]

BILLING CODE 4310-DK-P